DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-009.

Applicant: Baylor College of Medicine, One Baylor Plaza, Houston, TX 77030.

Instrument: Electron Microscope, Model JEM-1230.

Manufacturer: JEOL Ltd., Japan.

Intended Use: The instrument is intended to be used in research to understand the molecular biology and replication strategies of rotaviruses and caliciviruses, visualize viruses from clinical isolates or grown in tissue culture, and visualizing virus-like particles, produced using a baculovirus expression system to determine particle integrity. The virus-like particles are used in research to develop vaccines against rotavirus and calciviruses.

Application accepted by Commissioner of Customs: February 20, 2003.

Docket Number: 03-010.

Applicant: Vanderbilt University, 110 21st Avenue South, Suite 1110, Nashville, TN 37203.

Instrument: Scanning Near-field Optical Microscope, Model AlphaSNOM.

Manufacturer: Wissenschaftliche Instrumente und Technologie GmbH, Germany.

Intended Use: The instrument is intended to be used to map, at scales as small as 1 nm, the morphological, optical, magnetic and electronic properties of many novel thin films and nanostructures. Research includes thin-film structures on MEMS components; silicon carbide power MOSFETS; pulsed laser deposition of organic films and organic/inorganic interfaces; and diamond nanotip applications.

Application accepted by Commissioner of Customs: February 27, 2003.

Docket Number: 03-011.

Applicant: Rice University, CBEN MS-63, P.O. Box 1892, Houston, TX 77251-1892.

Instrument: Electron Microscope, Model JEM-2010.

Manufacturer: JEOL Ltd., Japan.

Intended Use: The instrument is intended to be used to investigate the microstructures and properties of biomaterials, nanomaterials, cells, tissues and related materials. Objectives pursued in these investigations include:

(1) Nano-articles: widely preparing nano-articles via chemical synthesis and elucidation of their structure/surface chemistry/catalysis relationships for advanced applications.

(2) DNA-coated gold nanoparticles: a method of Gold-nanoparticle attached phase transition will be introduced.

(3) Nanotubes: investigating controllable growth, reaction with cells, and their applications in AFM.

Application accepted by Commissioner of Customs: February 28, 2003.

Docket Number: 03-012.

Applicant: Beckman Research Institute of the City of Hope National Medical Center, 1450 E. Duarte Road, Duarte, CA 91010.

Instrument: Electron Microscope, Model Tecnai G ² 12 TWIN.

Manufacturer: FEI Company, The Netherlands.

Intended Use: The instrument is intended to be used in biomedical research projects including:

(1) Dystrophia myotonica protein kinase (DMPK) RNA in myoblasts from individuals affected with muscular dystrophy.

(2) Physiology of Synapse.

(3) Hydrogen peroxides in intestinal inflammation in cancer.

Objectives of the investigations are:

(1) To understand how the pathogenic DMPK RNA molecules disrupt normal muscle tissue differentiation,

(2) To study membrane retrieval mechanisms after exocytosis, the role of dynamin in vesicle release and the role of choline acetyltransferase in the formation of synaptic vesicles, and

(3) To understand the role of glutathione peroxidase in the maintenance of healthy intestinal epithelia.

Application accepted by Commissioner of Customs: February 28, 2003.

Docket Number: 03-013.

Applicant: The University of Louisiana at Lafayette, 104 University Circle, Lafayette, LA 70504.

Instrument: Nuclear Microprobe System Components.

Manufacturer: Oxford Microbeams Limited, United Kingdom.

Intended Use: The instruments are intended to be used to develop a new system to provide analysis and imaging of microscopic areas on surfaces and near-surfaces of inorganic and organic materials. The objective of the experiments are to construct a prototypic system which can focus an ion beam into a spot size less than one micrometer square with sufficient beam current to allow elemental mapping of small areas on surfaces of materials and to use that system to develop techniques for microscopic materials analysis.

Application accepted by Commissioner of Customs: March 3, 2003.

Gerald A. Zerdy,
Program Manager, Statutory Import Programs Staff.

[FR Doc. 03-6933 Filed 3-21-03; 8:45 am]

BILLING CODE 3510-DS-P